DEPARTMENT OF COMMERCE

National Oceanic and Atmospheric Administration

[I.D. 110806B]

New England Fishery Management Council; Public Meeting

AGENCY: National Marine Fisheries Service (NMFS), National Oceanic and Atmospheric Administration (NOAA), Commerce.

ACTION: Notice of a public meeting.

SUMMARY: The New England Fishery Management Council's (Council) Vessel Monitoring System (VMS)/Enforcement Committee will meet to consider actions affecting New England fisheries in the exclusive economic zone (EEZ).

DATES: The meeting will be held on Thursday, November 30, 2006, from 9 a.m. to 3 p.m.

ADDRESSES: The meeting will be held at the New England Fishery Management Council office, 50 Water Street, Mill 2, Newburyport, MA 01950; telephone: (978) 465-0492.

FOR FURTHER INFORMATION CONTACT: Paul J. Howard, Executive Director, New England Fishery Management Council; telephone: (978) 465-0492.

SUPPLEMENTARY INFORMATION: The items of discussion in the committee's agenda are as follows:

1. Discussion of discuss safety, regulation compliance, and familiarizing industry with proper use of VMS.

2. Discussion of an Office for Law Enforcement issue: the capabilities and limitations of VMS as an enforcement tool.

3. The agenda will also include: fishery management measure enforceability and priority ranking; industry and law enforcement feedback on VMS usage and how it can be improved for both (example: potential using VMS to notify when a vessel is seeking safe refuge in a storm).

4. The committee will also discuss coordination with the Law Enforcement Working Group and plan the agenda and schedule for five more VMS/Enforcement meetings.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: November 9, 2006.
Tracey L. Thompson,
Acting Director, Office of Sustainable Fisheries, National Marine Fisheries Service.

[FR Doc. E6-19226 Filed 11-14-06; 8:45 am]

BILLING CODE 3510-22-S